DEPARTMENT OF DEFENSE

Department of the Navy

[Docket ID: USN-2015-HQ-0013]

Proposed Collection; Comment Request

AGENCY: Naval Safety Center, Department of the Navy, DoD.

ACTION: Notice.

SUMMARY: In compliance with the Paperwork Reduction Act of 1995, the Naval Safety Center announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 2, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Naval Safety Center, Attention: Records Manager, 375 A Street, Norfolk, VA 23511-4399 or call the Naval Safety Center at 757 444-3520 ext. 7011.

SUPPLEMENTARY INFORMATION: Title, Associated Form, and OMB Number: Risk Management Information (RMI) system; OPNAV 3750/16 Safety Investigation Report Enclosure (Promise of Confidentiality) Advice to Witness, OPNAV 5102/10 Advice to Witness, OPNAV 5102/11 Advice to Witness (Promise of Confidentiality); OMB Control Number 0703-XXXX.

Needs and Uses: The information collection requirement is necessary to collect information on injuries/fatalities, occupational illnesses required of Federal governmental agencies by the Occupational Safety and Health Administration (OSHA), and pertinent information for property damage occurring during DON operations. The data maintained in this system will be used for analytical purposes to improve the Department of the Navy's accident prevention policies, procedures, standards and operations, as well as to ensure internal data quality assurance. The collection will also help to ensure that all individuals receive required safety, fire, security, force protection, and emergency management training courses necessary to perform assigned duties and comply with Federal, DoD, and DON related regulations.

Affected Public: Individuals & Household, Federal Government.

Annual Burden Hours: 37.5 hours.

Number of Respondents: 25.

Responses per Respondent: 1.

Average Burden per Response: 1.5 hour.

Frequency: On occasion.

Respondents are Federal contractors who are involved in an incident or mishap while performing duties in support of a DON contract, or whilein/on a DON base, building, vessel, vehicle, or other facility; Military retirees and foreign nationals who are involved in an incident while in/on a DON base, building, vessel, vehicle, or other facility; Military dependents who are involved in an incident while in/on a DON base, building, vessel, vehicle, or other facility, or while accompanying their military sponsor.

Dated: August 27, 2015.
Aaron Siegel,
Alternate OSD Federal Register Liaison Officer, Department of Defense.

[FR Doc. 2015-21588 Filed 9-1-15; 8:45 am]

BILLING CODE 5001-06-P